ENVIRONMENTAL PROTECTION AGENCY

40 CFR Part 51

[FRL-7555-3]

Revisions to the Regional Haze Rule To Correct Mobile Source Provisions in Optional Program for Nine Western States and Eligible Indian Tribes Within That Geographic Area; Notice of Public Hearing

AGENCY: Environmental Protection Agency (EPA).

ACTION: Proposed rule; notice of public hearing.

SUMMARY: Due to a request from a commenter, EPA is holding a public hearing on a notice of proposed rulemaking that was published in the Federal Register on July 3, 2003 (68 FR 39888) related to the mobile source provisions in 40 CFR 51.309 of EPA's regional haze rule. The EPA published both a direct final rule and a concurrent notice of proposed rulemaking to amend and revise certain provisions of the regional haze rule in order to address an emissions projection scenario for mobile sources which was not addressed when EPA published the regional haze rule in 1999.

DATES: The public hearing will be held from 9 a.m. to 12 p.m. (MST) on Wednesday, October 8, 2003, at the U.S. EPA-Region 8, 999 18th Street, 2nd Floor Conference Center-Columbine Room, Denver, CO 80202.

ADDRESSES: Docket. Materials relevant to this rulemaking are contained in Public Docket Number OAR-2002-0076 at the following address: EPA Docket Center (EPA/DC), Public Reading Room, Room B102, EPA West Building, 1301 Constitution Avenue, NW., Washington DC. The EPA Docket Center Public Reading Room is open from 8:30 a.m. to 4:30 p.m., Monday through Friday, except on government holidays. You can reach the Reading Room by telephone at (202) 566-1744, and by facsimile at (202) 566-1741. The telephone number for the Air Docket is (202) 566-1742. You may be charged a reasonable fee for photocopying docket materials, as provided in 40 CFR part 2.

Electronic Access. You may access this Federal Register document electronically through the EPA Internet under the “Federal Register” listings at http://www.epa.gov/fedrgstr/. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above. Once in the system, select “search,” then key in the docket identification number, OAR-2002-0076.

FOR FURTHER INFORMATION CONTACT: If you would like further information about today's action, contact Kathy Kaufman, Integrated Policies and Strategies Group, (919) 541-0102 or by e-mail kaufman.kathy@epa.gov.

SUPPLEMENTARY INFORMATION: We have received a request for public hearing on this rulemaking from one commenter, the Center for Energy and Economic Development (CEED). The CEED commented that EPA should not advance either the proposed or direct final rules, and that further opportunity for public comment is needed.

List of Subjects in 40 CFR Part 51

Environmental protection, Administrative practice and procedure, Air pollution control, Carbon monoxide, Nitrogen dioxide, Particulate matter, Sulfur oxides, Volatile organic compounds.

Dated: August 29, 2003.
Henry C. Thomas,
Acting Director, Office of Air Quality Planning and Standards.

[FR Doc. 03-22932 Filed 9-8-03; 8:45 am]

BILLING CODE 6560-50-P